DEPARTMENT OF VETERANS AFFAIRS

Cost of Living Adjustments for Service-Connected Benefits

AGENCY: Department of Veterans Affairs.

ACTION: Notice.

SUMMARY: As required by the Veterans' Compensation COLA Act of 2016, the Department of Veterans Affairs (VA) is hereby giving notice of adjustments in certain benefit rates. These adjustments affect the compensation program.

DATES: These adjustments became effective on December 1, 2016, the date provided by the Act.

FOR FURTHER INFORMATION CONTACT: Jonathan Hughes, Chief, Policy Staff (211B), Compensation Service, Department of Veterans Affairs, 810 Vermont Avenue NW., Washington, DC 20420, (202) 461-9700. (This is not a toll-free telephone number.)

SUPPLEMENTARY INFORMATION: Section 2 of the Veterans' Compensation COLA Act of 2016, Public Law 114-197, provides for an increase in each of the rates in sections 1114, 1115(1), and 1162 of title 38, United States Code. VA is required to increase these benefit rates by the same percentage as increases in the benefit amounts payable under title II of the Social Security Act. The increased rates are required to be published in the Federal Register.

The Social Security Administration has announced that there will be a 0.3 percent cost-of-living increase in Social Security benefits for 2017. Therefore, applying the same percentage, the following rates for VA's compensation program became effective on December 1, 2016:

Disability Compensation
[38 U.S.C. 1114]
Disability evaluation percent | Monthly rate
10 | $133.57
20 | 264.02
30 | 408.97
40 | 589.12
50 | 838.64
60 | 1,062.27
70 | 1,338.71
80 | 1,556.13
90 | 1,748.71
100 | 2,915.55
(38 U.S.C. 1114(k) through (t)):
38 U.S.C. 1114(k) | $103.54
38 U.S.C. 1114(l) | 3,627.87
38 U.S.C. 1114(m) | 4,003.72
38 U.S.C. 1114(n) | 4,554.51
38 U.S.C. 1114(o) | 5,090.83
38 U.S.C. 1114(p) | 5,090.83
38 U.S.C. 1114(r) | 2,183.56; 3,253.08
38 U.S.C. 1114(s) | 3,263.43
38 U.S.C. 1114(t) | 3,253.08

Additional Compensation for Dependents
[38 U.S.C. 1115(1)]
38 U.S.C. 1115(1):
38 U.S.C. 1115(1)(A) | $162.56
38 U.S.C. 1115(1)(B) | 281.61; 80.76
38 U.S.C. 1115(1)(C) | 108.72; 80.76
38 U.S.C. 1115(1)(D) | 130.45
38 U.S.C. 1115(1)(E) | 311.64
38 U.S.C. 1115(1)(F) | 260.91

Clothing Allowance
[38 U.S.C. 1162]
$779.62 per year

Signing Authority

The Secretary of Veterans Affairs, or designee, approved this document and authorized the undersigned to sign and submit the document to the Office of the Federal Register for publication electronically as an official document of the Department of Veterans Affairs. Gina S. Farrisee, Deputy Chief of Staff, Department of Veterans Affairs, approved this document on March 16, 2017, for publication.

Dated: March 17, 2017.
Jeffrey Martin,
Office Program Manager, Office of Regulation Policy & Management, Office of the Secretary, Department of Veterans Affairs.

[FR Doc. 2017-06059 Filed 3-27-17; 8:45 am]

BILLING CODE 8320-01-P